DEPARTMENT OF DEFENSE

Department of the Army

[Docket ID: USA-2011-0011]

Privacy Act of 1974; System of Records

AGENCY: Department of the Army, DoD.

ACTION: Notice to add a system of records.

SUMMARY: The Department of the Army proposes to add a system of records to its inventory of record systems subject to the Privacy Act of 1974 (5 U.S.C. 552a), as amended.

DATES: This proposed action would be effective without further notice on July 11, 2011 unless comments are received which result in a contrary determination.

ADDRESSES: You may submit comments, identified by docket number and/Regulatory Information Number (RIN) and title, by any of the following methods:

• Federal Rulemaking Portal: http://www.regulations.gov. Follow the instructions for submitting comments.

• Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905, or by phone at (703) 428-6185.

SUPPLEMENTARY INFORMATION: The Department of the Army notices for systems of records subject to the Privacy Act of 1974 (5 U.S.C. 552a), as amended, have been published in the Federal Register and are available from the address in FOR FURTHER INFORMATION CONTACT.

The proposed system report, as required by 5 U.S.C. 552a(r) of the Privacy Act of 1974, as amended, was submitted on June 2, 2011 to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 2, 2011.
Aaron Siegel,
Alternate OSD Federal Register Liaison Officer, Department of Defense.

A0600-8a PEO EIS

System name:

Integrated Personnel and Pay System—Army (IPPS-A) Records.

System location:

Primary Location: Radford Army Ammunitions Plant, Radford, VA 24143-0004.

Decentralized segments are located at Army Processing Centers (APCs) worldwide.

Categories of individuals covered by the system:

Members of the United States Army to include Active Duty, National Guard, Reserve, select Army retired and former Army military personnel.

Categories of records in the system:

Personal Information: Individual's name, rank/grade, address, date of birth, eye color, height, weight, place of birth, Social Security Number (SSN), and similar personal identifiers for beneficiary/dependant purposes; driver's license number, security clearance level, office location, assigned user name and security questions, local and home of record addresses, phone numbers and emergency contact information.

Personnel Information: Evaluation and review history, enrollment, participation, status and outcome information for personnel programs, service qualification and performance measures, types of orders, accomplishments, skills and competencies, career preferences, contract information related to accession and Oath of Office, enlistment and re-enlistment, retirement and separation information, retirement points including information necessary to determine retirement pay, benefits eligibility, enrollment, designations and status information, Uniform Code of Military Justice (UCMJ) actions summarizing court martial, non-judicial punishments, and similar or related documents. Circumstances of an incident the member was involved in and whether he or she is in an injured, wounded, seriously wounded, or ill duty status from the incident. Duty related information: Duty station, employment and job related information and history, deployment information, work title, work address and related work contact information (e.g., phone and fax numbers, E-mail address), supervisor's name and related contact information.

Education and training: Graduation dates and locations, highest level of education, other education, training and school information including courses and training completion dates.

Pay Entitlement and Allowances: Pay information including earnings and allowances, additional pay (bonuses, special, and incentive pays), payroll computation, balances and history with associated accounting elements, leave balances and leave history.

Deductions from Pay: Tax information (Federal, state and local) based on withholding options, payroll deductions, garnishments, savings bond information including designated owner, deductions, and purchase dates, thrift savings plan participation.

Other pay-related information: Direct deposit information including financial institution name, routing number, and account information.

Authority for maintenance of the system:

10 U.S.C. 113, Secretary of Defense; 10 U.S.C. 3013, Secretary of the Army; 37 U.S.C., Pay and Allowances of the Uniformed Services; 10 U.S.C., Armed Forces: Under Secretary of Defense for Personnel and Readiness; and E.O. 9397 (SSN), as amended.

Purpose(s):

A Web-based, integrated personnel and pay system to support all components of the United States Army to include Active Duty, National Guard, Reserve, select Army retired and former Army military personnel. This system is intended to support peacetime and wartime readiness requirements across a range of personnel, financial and related matters.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To officials and employees of the Department of Health and Human Services, and Selective Service Administration in the performance of their official duties related to eligibility, notification, and assistance in obtaining benefits for which members, former members or retiree may be eligible.

To officials and employees of the Department of Veterans Affairs in the performance of their official duties related to approved research projects, and for processing and adjudicating claims, determining eligibility, notification, and assistance in obtaining benefits and medical care for which members, former members, retiree and family members/annuitants may be eligible.

To the Department of Veterans Affairs to provide information regarding a service-member's record or family member for the purposes of supporting eligibility processing for the Service-member's Group Life Insurance program.

To state and local agencies in the performance of their official duties related to verification of status for determination of eligibility for Veterans bonuses and other benefits and entitlements.

To officials and employees of the American Red Cross in the performance of their duties relating to the assistance of the members and their dependents and relatives, or related to assistance previously furnished such individuals, without regard to whether the individual assisted or his/her sponsor continues to be a member of the Military Service. Access will be limited to those portions of the member's record required to effectively assist the member.

To the U.S. Citizenship and Immigration Services for use in making alien admission and naturalization inquiries.

To the Social Security Administration to obtain or verify Social Security Numbers or to substantiate applicant's credit for social security compensation.

To officials and employees of the Office of the Sergeant at Arms of the United States House of Representatives in the performance of their official duties related to the verification of the active duty military service of Members of Congress. Access is limited to those portions of the member's record required to verify time in service.

To the widow or widower, dependent, or next-of-kin of deceased members to settle the affairs of the deceased member. The individuals will have to verify relationship by providing a birth certificate, marriage license, death certificate, or court document as requested/required to prove identity.

To governmental agencies for the conduct of computer matching agreements for the purpose(s) of determining eligibility for Federal benefit programs, to determine compliance with benefit program requirements and to recover improper payments or delinquent debts under a Federal benefit program.

To Federal and state licensing authorities and civilian certification boards, committees and/or ecclesiastical endorsing organizations for the purposes of professional credentialing (licensing and certification) of lawyers, chaplains and health professionals.

To Federal agencies such as the National Academy of Sciences, for the purposes of conducting personnel and/or health-related research in the interest of the Federal government and the public. When not considered mandatory, the names and other identifying data will be eliminated from records used for such research studies.

To the officials and employees of the Department of Labor in the performance of their official duties related to employment and compensation.

Note: Disclosure to consumer reporting agencies.

Disclosures pursuant to 5 U.S.C. 552a(b)(12) may be made from this system to `consumer reporting agencies' as defined in the Fair Credit Reporting Act (14 U.S.C. 1681a(f)) or the Federal Claims Collection Act of 1966 (31 U.S.C. 3701(a)(3)). The purpose of this disclosure is to aid in the collection of outstanding debts owed to the Federal government, typically to provide an incentive for debtors to repay delinquent Federal government debts by making these debts part of their credit records.

The disclosure is limited to information necessary to establish the identity of the individual, including name, address, and taxpayer identification number (Social Security Number (SSN)); the amount, status and history of the claim, and the agency or program under which the claim arose for the sole purpose of allowing the consumer reporting agency to prepare a commercial credit report.

The DoD `Blanket Routine Uses' set forth at the beginning of the Army's compilation of System of Records Notices apply to this system.

Policies and practices for storing, retrieving, accessing, retaining, and disposing of records in the system:

Storage:

Electronic storage media.

Retrievability:

Individual's name, Social Security Number (SSN), and date of birth.

Safeguards:

Physical entry will be restricted by the use of locks, guards, and will be accessible only to authorized personnel with a need-to-know. Access to personal data will be limited to person(s) responsible for maintaining and servicing IPPS-A data in performance of their official duties and who are properly trained, screened and cleared for a need-to-know. Access to personal data will be further restricted by encryption and the use of Common Access Card (CAC) and/or strong password, which are changed periodically according to DoD and Army security policies.

Retention and disposal:

Personnel and education records: Keep in current files area until transfer or separation of individual and then until no longer needed for conducting business, but not longer than 6 years after the event, then destroy.

UCMJ records: Records at the Office of the Judge Advocate General, the Office of the Chief Counsel, and the Office, Chief of Engineers are permanent; at all other locations, records are destroyed upon obsolescence.

Military pay records: Records may be temporary in nature and destroyed when actions are completed, superseded, obsolete, or no longer needed. Other records may be cut off at the end of the payroll year or fiscal year, and destroyed 6 years and 3 months after cutoff. Active duty pay records created prior to automation were cut off on conversion to the Defense Joint Military Payroll System (DJMS), and will be destroyed October 1, 2033, or 56 years after implementation of DJMS. The records are destroyed by tearing, shredding, pulping, macerating, burnings or degaussing the electronic storage media.

System manager(s) and address:

IPPS-A System Manager, PEO EIS, Project Directorate IPPS-A, Hoffman II, 200 Stovall St., Alexandria, VA 22332-0010.

Notification procedure:

Individuals seeking to determine whether information about themselves is contained in this system of records should address written inquiries to Army Records, U.S. Army Human Resources Command, Attn: AHRC-PAV-V, 1 Reserve Way, St. Louis, MO 63132-5200.

For verification purposes, individuals should provide their full name, Social Security Number (SSN), any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Individuals seeking written access to information about themselves contained in this system of records should address written inquiries to Army Records, U.S. Army Human Resources Command, Attn: AHRC-PAV-V, 1 Reserve Way, St. Louis, MO 63132-5200.

For verification purposes, individuals should provide their full name, Social Security Number (SSN), any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting record procedures:

The Army's rules for accessing records and for contesting contents and appealing initial agency determinations are contained in Army Regulation 340-21, The Army Privacy Program; Title 32 CFR National Defense, part 505, Army Privacy Act Program; or may be obtained from the system manager.

Record source categories:

Data contained in this system is collected from the individuals and current Army Human Resource Offices and integrated pay systems.

Exemptions claimed for the system:

None.

[FR Doc. 2011-14309 Filed 6-8-11; 8:45 am]

BILLING CODE P